DEPARTMENT OF VETERANS AFFAIRS

[OMB Control No. 2900-0500]

Agency Information Collection Activity Under OMB Review: Mandatory Verification of Dependents

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0500.

FOR FURTHER INFORMATION CONTACT: Danny S. Green, Enterprise Records Service (005R1B), Department of Veterans Affairs, 810 Vermont Avenue NW, Washington, DC 20420, (202) 421-1354 or email danny.green2@va.gov. Please refer to “OMB Control No. 2900-0500” in any correspondence.

SUPPLEMENTARY INFORMATION:

Authority: 38 U.S.C. 501.

Title: Mandatory Verification of Dependents (VA Form 21-0538).

OMB Control Number: 2900-0500.

Type of Review: Revision of a currently approved collection.

Abstract: VA Form 21-0538 is used to request verification of the status of dependents for whom additional compensation is being paid to veterans. Without this information, continued entitlement to the benefits for dependents could not be determined.

VA Form 21-0538 has been revised; (1) letter template removed as it was a duplicate of a VA cover letter already in use, (2) the title has been changed from `Mandatory Status of Dependents' to Mandatory Verification of Dependents, (3) Section II: Status Certification, was added to help delineate whether the veteran is needed to provide additional information on the status of their dependents, or not, (4) the form was changed to include removals only as these are dependents that have already been previously added to the veteran's benefits, as another collection is used to add dependents, and (5) an e-signature has been added to provide a digital format for online signatures. The burden estimate has also been decreased.

An agency may not conduct or sponsor, and a person is not required to respond to a collection of information unless it displays a currently valid OMB control number. The Federal Register Notice with a 60-day comment period soliciting comments on this collection of information was published at 85 FR 196 on October 8, 2020, pages 63661 and 63662.

Affected Public: Individuals or Households.

Estimated Annual Burden: 29,233 hours.

Estimated Average Burden per Respondent: 10 minutes.

Frequency of Response: One time.

Estimated Number of Respondents: 175,400.

By direction of the Secretary:
Danny S. Green,
VA PRA Clearance Officer, Office of Quality, Performance and Risk, Department of Veterans Affairs.

[FR Doc. 2020-28344 Filed 12-22-20; 8:45 am]

BILLING CODE 8320-01-P